NATIONAL ARCHIVES AND RECORDS ADMINISTRATION

Agency Information Collection Activities: Proposed Collection; Comment Request

AGENCY: National Archives and Records Administration (NARA).

ACTION: Notice.

SUMMARY: NARA is giving public notice that the agency proposes to request approval of a one-time information collection, a survey of small business records centers. The survey information will be used by the NARA policy and technical staff who are conducting a review of our regulation on records center facility standards (36 CFR part 1228, subpart K). The public is invited to comment on the proposed information collection pursuant to the Paperwork Reduction Act of 1995.

DATES: Written comments must be received on or before September 22, 2003 to be assured of consideration.

ADDRESSES: Comments should be sent to: Regulation Comment Desk (NPOL), Room 4100, National Archives and Records Administration, 8601 Adelphi Rd. College Park, MD 20740-6001; or faxed to 301-837-0319; or electronically mailed to comments@nara.gov.

FOR FURTHER INFORMATION CONTACT: Requests for additional information or copies of the proposed information collection and supporting statement should be directed to Nancy Allard at telephone number 301-837-1477, or fax number 301-837-0319.

SUPPLEMENTARY INFORMATION: Pursuant to the Paperwork Reduction Act of 1995 (Pub. L. 104-13), NARA invites the general public and other Federal agencies to comment on proposed information collections. The comments and suggestions should address one or more of the following points: (a) Whether the proposed information collection is necessary for the proper performance of the functions of NARA; (b) the accuracy of NARA's estimate of the burden of the proposed information collection; (c) ways to enhance the quality, utility, and clarity of the information to be collected; and (d) ways to minimize the burden of the collection of information on respondents, including the use of information technology. In commenting on the accuracy of NARA's estimate of the burden, we also request your comments on the average hourly salary cost for the individuals who would complete the survey. The comments that are submitted will be summarized and included in the NARA request for Office of Management and Budget (OMB) approval. All comments will become a matter of public record.

In this notice, NARA is soliciting comments concerning the following information collection:

Title: Records Storage Facility Survey.

OMB number: New.

Agency form number: None.

Type of review: Regular.

Affected public: Owners/operators of commercial records storage facilities that are small businesses.

Estimated number of respondents: 263.

Estimated time per response: 15 minutes.

Frequency of response: One-time.

Estimated total annual burden hours: 66 hours.

Abstract: The information collection is a survey of the characteristics of records storage facilities operated by small businesses. Respondents will be a random sample of owners/operators of such facilities. The survey information will be used by the NARA policy and technical staff to evaluate the construction materials, fire protection measures, and storage practices common in small business records centers against the existing standards in the NARA regulation on records center facility standards (36 CFR part 1228, subpart K). The information will be used in a regulatory flexibility analysis of possible alternatives to the existing standards and assessment of the ability of small business to comply with those alternatives.

Dated: July 16, 2003.
Nancy Y. Allard,
NARA Federal Register Liaison.

[FR Doc. 03-18568 Filed 7-21-03; 8:45 am]

BILLING CODE 7515-01-P